DEPARTMENT OF TRANSPORTATION

Federal Aviation Administration

14 CFR Part 39

[Docket No. 99-SW-57-AD; Amendment 39-11859; AD 2000-16-05]

RIN 2120-AA64

Airworthiness Directives; Schweizer Aircraft Corporation Model 269A, 269A-1, 269B, 269C, 269C-1, 269D, and TH-55A Helicopters

AGENCY: Federal Aviation Administration, DOT.

ACTION: Final rule.

SUMMARY: This amendment supersedes an existing airworthiness directive (AD) that applies to Schweizer Aircraft Corporation (Schweizer) Model 269A, 269A-1, 269B, 269C, 269C-1, 269D helicopters. That AD requires inspecting the tail rotor swashplate shaft (shaft) nut for looseness and, if loose, inspecting the shaft for proper size; subsequently inspecting the shafts not previously inspected; and replacing any undersized shaft prior to further flight. This amendment reduces the applicability by specifying certain serial number tail rotor pitch control (pitch control) assemblies and shipping dates but adds the Schweizer Model TH-55A helicopter to the applicability. This amendment is prompted by the discovery of an undersized replacement shaft during routine maintenance. The actions specified by this AD are intended to prevent failure of the shaft, loss of the tail rotor, and subsequent loss of control of the helicopter.

DATES: Effective September 19, 2000.

The incorporation by reference of certain publications listed in the regulations is approved by the Director of the Federal Register as of September 19, 2000.

ADDRESSES: The service information referenced in this AD may be obtained from Schweizer Aircraft Corporation, P.O. Box 147, Elmira, New York 14902. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: George Duckett, Aviation Safety Engineer, FAA, New York Aircraft Certification Office, Airframe and Propulsion Branch, 10 Fifth Street, 3rd Floor, Valley Stream, New York 11581, telephone (516) 256-7525, fax (516) 568-2716.

SUPPLEMENTARY INFORMATION: A proposal to amend part 39 of the Federal Aviation Regulations (14 CFR part 39) by superseding AD 99-17-10, Amendment 39-11258 (64 FR 44823, August 18, 1999), which applies to Schweizer Model 269A, 269A-1, 269B, 269C, 269C-1, 269D, and TH-55A helicopters, was published in the Federal Register on May 9, 2000 (65 FR 26781). That action proposed to require inspecting the shaft nut, part number (P/N) 269A6258, for looseness; inspecting the shaft, P/N 269A6049-3, for proper size; and replacing any undersized shaft with an airworthy shaft of the proper size for helicopters with equipment installed as follows:

• Shaft, P/N 269A6049-3, shipped from the factory between September 1 and December 1, 1998, and installed after the helicopter was manufactured, or

• Pitch control assembly, P/N 269A6050-5, with serial number with an “S” prefix and number 1047 through 1061.

Interested persons have been afforded an opportunity to participate in the making of this amendment. No comments were received on the proposal or the FAA's determination of the cost to the public. The FAA has determined that air safety and the public interest require the adoption of the rule as proposed.

The FAA estimates that 28 helicopters of U.S. registry will be affected by this AD. For each helicopter, it will take approximately 0.25 work hours to accomplish the 10-hour inspection and 3.6 work hours to accomplish the inspection and replacement, if necessary, at the 100-hour or annual inspection interval. The average labor rate is $60 per work hour. Required parts will cost approximately $1400 per helicopter. Based on these figures, the total cost impact of the AD on U.S. operators is estimated to be $45,668.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11258 (64 FR 44823, August 18, 1999), and by adding a new airworthiness directive (AD), Amendment 39-11859, to read as follows:

2000-16-05 Schweizer Aircraft Corporation: Amendment 39-11859. Docket No. 99-SW-57-AD. Supersedes AD 99-17-10, Amendment 39-11258, Docket No. 99-SW-31-AD.

Applicability: Model 269A, 269A-1, 269B, 269C, 269C-1, 269D and TH-55A helicopters, with a tail rotor swashplate shaft (shaft), part number (P/N) 269A6049-3, or a tail rotor pitch control assembly (pitch control), P/N 269A6050-5, with a serial number (S/N) with an “S” prefix and number 1047 through 1061, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the shaft, loss of the tail rotor, and subsequent loss of control of the helicopter, accomplish the following:

(a) Within 10 hours time-in-service (TIS);

(1) Determine whether the factory-installed shaft, part number (P/N) 269A6049-3, has been replaced with a shaft shipped from the factory between September 1 and December 1, 1998, inclusive, or if a pitch control, P/N 269A6050-5, with a S/N with an “S” prefix and numbers 1047 through 1061 is installed.

(2) If the factory ship date for a replacement shaft cannot be positively determined, if the shipping date was between September 1 and December 1, 1998, inclusive, or if the pitch control S/N has an “S” prefix and number 1047 through 1061,

(i) Before further flight and thereafter at intervals not to exceed 10 hours TIS, accomplish “Procedure, Part I,” of Schweizer Service Bulletins B-271.1 for Models 269A, 269A-1, 269B, 269C and TH-55A helicopters; C1B-009.1 for the Model 269C-1, or DB-007.1 for the Model 269D, all dated October 14, 1999 (SB), as applicable.

(ii) At the next scheduled 100-hour or annual inspection, whichever occurs first, accomplish Part II, paragraphs a. through d., of the applicable SB. Shafts not meeting the requirements of paragraph d. of the applicable SB must be replaced with an airworthy shaft prior to further flight.

(b) Before installing a replacement shaft, determine the date the shaft was shipped from the factory. If the date was between September 1 and December 1, 1998, inclusive, or cannot be determined, accomplish the inspections required by Part II, paragraph d., of the applicable SB prior to installation. Replace any unairworthy shaft with an airworthy shaft.

(c) An alternative method of compliance or adjustment of the compliance time that provides an acceptable level of safety may be used if approved by the Manager, New York Aircraft Certification Office. Operators shall submit their requests through an FAA Principal Maintenance Inspector, who may concur or comment and then send it to the Manager, New York Aircraft Certification Office.

Note 2: Information concerning the existence of approved alternative methods of compliance with this AD, if any, may be obtained from the New York Aircraft Certification Office.

(d) Special flight permits may be issued in accordance with sections 21.197 and 21.199 of the Federal Aviation Regulations (14 CFR 21.197 and 21.199) to operate the helicopter to a location where the requirements of this AD can be accomplished.

(e) The inspections and modifications shall be done in accordance with “Procedure, Parts I and II,” paragraphs a. through d., of Schweizer Service Bulletins B-271.1, C1B-009.1, or DB-007.1, all dated October 14, 1999, as applicable. This incorporation by reference was approved by the Director of the Federal Register in accordance with 5 U.S.C. 552(a) and 1 CFR part 51. Copies may be obtained from Schweizer Aircraft Corporation, P.O. Box 147, Elmira, New York 14902. Copies may be inspected at the FAA, Office of the Regional Counsel, Southwest Region, 2601 Meacham Blvd., Room 663, Fort Worth, Texas; or at the Office of the Federal Register, 800 North Capitol Street, NW., suite 700, Washington, DC.

(f) This amendment becomes effective on September 19, 2000.

Issued in Fort Worth, Texas, on August 2, 2000.
Henry A. Armstrong,
Manager, Rotorcraft Directorate, Aircraft Certification Service.

[FR Doc. 00-20405 Filed 8-14-00; 8:45 am]

BILLING CODE 4910-13-U